DEPARTMENT OF HEALTH AND HUMAN SERVICES

Administration for Children and Families

Grants and Cooperative Agreements; Notice of Availability

Program Office Name: Administration for Native Americans (ANA).

Funding Opportunity Title: Native Language Preservation and Maintenance.

Announcement Type: Competitive Grant—Initial.

Funding Opportunity Number: HHS-2004-ACF-ANA-NL-0003.

CFDA Number: 93.587.

Due Date for Applications: April 2, 2004, 4:30 p.m. (Eastern Standard Time).

Summary: The Administration for Native Americans (ANA), within the Administration for Children and Families, announces the availability of fiscal year (FY) 2004 funds for new community-based activities under ANA's Native Language program. Financial assistance is provided utilizing a competitive process in accordance with the Native American Programs Act of 1974, as amended. ANA provides financial assistance to eligible applicants for the purpose of assisting Native Americans in assuring the survival and continuing vitality of their languages. Grants are provided under the following two categories: Category I Planning Grants are used to conduct the assessment and planning needed to identify the current status of the Native American language(s) to be addressed and to establish community long-range language goals; and, Category II Design and/or Implementation Grants are to design and/or implement a preservation language program that will contribute to the achievement of the community's long-range language goal(s).

The Program Areas of Interest are projects that ANA considers supportive to Native American communities. Although eligibility for funding is not restricted to projects of the type listed under this program announcement, these Areas of Interest are ones which ANA sees as particularly beneficial to the development of healthy Native American communities.

I. Funding Opportunity Description

The Congress has recognized that the history of past policies of the United States toward Indian and other Native American languages has resulted in a dramatic decrease in the number of Native American languages that have survived over the past 500 years. Consequently, the Native American Languages Act (Title 1, Pub. L. 101-477) was enacted to address this decline. This legislation vested the United States government with the responsibility to work together with Native Americans to ensure the survival of cultures and languages unique to Native America. This law declared that it is the policy of the United States to “preserve, protect and promote the rights and freedom of Native Americans to use, practice and develop Native American languages.” While the Congress made a significant first step in passing this legislation in 1990, it served only as a declaration of policy. No program initiatives were proposed, nor any funds authorized to enact any significant programs in furtherance of this policy.

In 1992, Congressional testimony provided estimates that of the several hundred languages that once existed; only about 150 are still spoken or remembered today. Furthermore, only 20 are spoken by persons of all ages, 30 are spoken by adults of all ages, about 60 are spoken by middle-aged adults, and 45 are spoken by the most elderly. In response to this testimony, the Congress passed the Native American Languages Act of 1992 (the Act), Pub. L. 102-524, to assist Native Americans in assuring the survival and continuing vitality of their languages. Passage of the Act was an important second step in an attempt to ensure the survival and continuation of Native languages. It provided the foundation upon which tribal nations can rebuild their economic strength and enhance the rich cultural diversity. The Federal government recognizes the substantial loss of Native American languages over the past several hundred years, and acknowledges the nature and magnitude of the status of Native American languages will be better defined when eligible applicants under the Act have completed language assessments.

The Administration for Native Americans (ANA) believes that the responsibility for achieving self-sufficiency rests with the governing bodies of Indian Tribes, Alaska Native villages, and in the leadership of Native American groups. This belief supports the ANA principle that the local community and its leadership are responsible for determining goals, setting priorities, and planning and implementing programs that support the community's long-range goals.

Therefore, since preserving a language and ensuring its continuation is generally one of the first steps taken toward strengthening a group's identity; activities proposed under this program announcement will contribute to the social development of Native communities and significantly contribute to their efforts toward self-sufficiency. The Administration for Native Americans recognizes that eligible applicants must have the opportunity to develop their own language plans, improve technical capabilities, and have access to the necessary financial and technical resources in order to assess, plan, develop and implement programs to assure the survival and continuing vitality of their languages. ANA also recognizes that potential applicants may have specialized knowledge and capabilities to address specific language concerns at various levels. This program announcement reflects these special needs and circumstances.

In support of the Presidential Executive Orders on Asian American and Pacific Islanders, Community-based Alternatives for Individuals with Disabilities, and Faith-based and Community Organizations, ANA encourages greater participation from Hawaiian and Pacific Islander communities, encourages Native communities to address the needs of people with disabilities, and invites eligible faith-based and community organizations to apply.

This program announcement will emphasize community-based, locally designed projects. This emphasis will increase the number of grants to local community organizations and expand the number of partnerships among locally based non-profit organizations. ANA will accept applications from multiple organizations in the same geographic area. Previously, under each competitive program area, ANA accepted one application that served or impacted a reservation, Tribe or Native American community. The reason for this change is to expand and support large Native American rural and urban communities that provide a variety of services in the same geographic area. Although Tribes are limited to three simultaneous ANA grants (one each under SEDS, Language and Environmental programs) at any one time, this clarification allows other community based organizations to apply for ANA funding, provided the objectives and activities do not duplicate currently funded projects serving the same geographic area.

In response to this announcement, ANA encourages Native American tribes and organizational leaders to propose, coordinate and implement community-based projects to meet the needs of its community members and develop options and opportunities for future generations.

The Program Areas of Interest are projects that ANA considers supportive to Native American communities. Although eligibility for funding is not restricted to projects of the type listed under this program announcement, these Areas of Interest are ones which ANA sees as particularly beneficial to the development and preservation of Native American languages.

Financial assistance under the Native Language program is provided utilizing a competitive process in accordance with the Native American Programs Act of 1974, as amended.

This program is authorized by U.S. Code Citation 42 U.S.C. 2991 et seq. 1974, the Native Americans Programs Act.

ANA Administrative Policies: Applicants must comply with the following ANA Administrative Policies:

• An applicant must provide a 20% non-federal match of the approved project costs. Applications originating from American Samoa, Guam, or the Commonwealth of the Northern Mariana Islands are covered under section 501(d) of Public Law 95-134, as amended (48 U.S.C. 1469a), under which HHS waives any requirement for matching funds under $200,000 (including in-kind contributions).

• An application from a Tribe, Alaska Native Village or Native American organization must be from the governing body.

• A non-profit organization submitting an application must submit proof of its non-profit status at the time of submission. The non-profit agency can accomplish this by providing: (i) A reference to the applicant organization's listing in the Internal Revenue Service's (IRS) most recent list of tax-exempt organizations described in the IRS Code; or (ii) a copy of the currently valid IRS tax exemption certificate; or (iii) a statement from a State taxing body, State Attorney General, or other appropriate State official certifying that the applicant organization has a non-profit status and none of the net earnings accrue to any private shareholders or individuals; or (iv) a certified copy of the organization's certificate of incorporation or similar document that clearly establishes non-profit status; or (v) any of the items in the subparagraphs immediately above for a State or national parent organization and a statement signed by the parent organization that the applicant organization is a local non-profit affiliate. Organizations incorporating in American Samoa are cautioned that the Samoan government relies exclusively upon IRS determination of non-profit status; therefore, articles of incorporation approved by the Samoan government do not establish non-profit status for the purpose of ANA eligibility.

• If the applicant, other than a Tribe or an Alaska Native Village government, is proposing a project benefiting Native Americans or Native Alaskans, or both, it must provide assurance that it's duly elected or appointed board of directors is representative of the community to be served. To establish compliance, an applicant should provide supporting documentation and assurance that it's duly elected or appointed board of directors is majority Native American.

• Applicants must describe how the proposed project objectives and activities relate to a locally determined strategy.

• Proposed projects must consider the maximum use of all available community-based resources.

• Proposed projects must present a strategy to overcome the challenges that hinder movement toward self-sufficiency in the community.

• Applicants proposing an Economic Development project should address the project's viability. A business plan, if applicable, must be included to describe the project's feasibility, cash flow, and approach for the implementation and marketing of the business.

• ANA will not accept applications from tribal components, which are tribally authorized divisions of a larger tribe, which are not approved by the governing body of the tribe.

• An applicant can have only one active ANA Native Language grant operating at any given time.

• ANA funds short-term projects not programs. Projects must have definitive goals and objectives that will be achieved by the end of the project period. All projects funded by ANA must be completed, or self-sustaining, or supported by other than ANA funding at the end of the project period.

Definitions: Program specific terms and concepts are defined and should be used as a guide in writing and submitting the proposed project. The program areas of interest in this program announcement are based on the following definitions:

Authorized Representative: The person or person(s) authorized by Tribal or Organizational resolution to execute documents and other actions required by outside agencies.

Budget Period: The interval of time into which the project period is divided for budgetary or funding purposes, and for which a grant is made. A budget period usually lasts one year in a multi-year project period.

Community: A group of people residing in the same geographic area that can apply their own cultural and socio-economic values in implementing ANA's program objectives and goals. In discussing the applicant's community, the following information should be provided: (1) A description of the population segment within the community to be served or impacted; (2) the size of the community; (3) geographic description or location, including the boundaries of the community; (4) demographic data on the target population; and (5) the relationship of the community to any larger group or tribe.

Community Involvement: How the community participated in the development of the proposed project, how the community will be involved during the project implementation and after the project is completed. Evidence of community involvement can include, but is not limited to, certified petitions, public meeting minutes, surveys, needs assessments, newsletters, special meetings, public Council meetings, public committee meetings, public hearings, and annual meetings with representatives from the community. The applicant should document the community's support of the proposed project. Applications from National and Regional Indian and Native organizations should clearly demonstrate a need for the project, explain how the project originated, identify the beneficiaries, and describe and relate the actual project benefits to the community and organization. National Indian and Native organizations should also identify their membership and specifically discuss how the organization operates and impacts Native American people and communities.

Completed Project: A project funded by ANA is finished, or is self-sustaining, or funded by other than ANA funds, and the results and outcomes are achieved by the end of the project period.

Consortia—Tribe/Village: A group of Tribes or villages that join together either for long-term purposes or for the purpose of an ANA project. Applicant must identify Consortia membership. The Consortia applicant must be the recipient of the funds. A Consortia applicant must be an “eligible entity” as defined by this Program Announcement and the ANA regulations. Consortia applicants should include documentation (a resolution adopted pursuant to the organization's established procedures and signed by an authorized representative) from all consortia members supporting the ANA application. An application from a consortium should have goals and objectives that will create positive impacts and outcomes in the communities of its members. ANA will not fund activities by a consortium of tribes which duplicates activities for which member Tribes also receives funding from ANA. The consortium application should identify the role and responsibility of each participating Consortia member and a copy of the consortia legal agreement or Memoranda of Agreement to support the proposed project.

Construction: The initial building of a facility.

Core Administration: Salaries and other expenses for those functions that support the applicant's organization as a whole or for purposes that are unrelated to the actual management or implementation of the ANA project. However, salaries and activities that are clearly related to the ANA project are eligible for grant funding.

Economic Development: Involves the promotion of the physical, commercial, technological, industrial, and/or agricultural capacities necessary for a sustainable local community. Economic development includes activities and actions that develop sustainable, stable, and diversified private sector local economies. For example, initiatives that support employment options, business opportunities, development and formation of a community's economic infrastructure, laws and policies that result in the creation of businesses and employment options and opportunities that provide for the foundation of healthy communities and strong families.

Equipment: Tangible, non-expendable personal property, including exempt property, charged directly to the award having a useful life of more than one year and an acquisition cost of $5,000 or more per unit. However, consistent with recipient policy, lower limits may be established.

Governance: Involves assistance to tribal and Alaska Native village government leaders to increase their ability to execute local control and decision-making over their resources.

Implementation Plan: The guidebook the applicant will use in meeting the results and benefits expected for the project. The Implementation Plan provides detailed descriptions of how, when, where, by whom and why activities are proposed for the project and is complemented and condensed by the Objective Work Plan.

In-kind Contributions: In-kind contributions are property or services which benefit a federally assisted project or program and which are contributed by the grantee, non-Federal third parties without charge to the grantee, or a cost-type contractor under the grant agreement. Any proposed In-kind match must meet the applicable requirements found in 45 CFR parts 74 and 92.

Letter of Commitment: A third party statement to document the intent to provide specific in-kind contributions or cash to support the applicant. The Letter of Commitment must state the dollar amount (if applicable), the length of time the commitment will be honored, and the conditions under which the organization will support the proposed ANA project. If a dollar amount is included, the amount must be based on market and historical rates charged and paid. The resources to be committed may be human, natural, physical, or financial, and may include other Federal and non-Federal resources. For example, a notice of award from another Federal agency committing $200,000 in construction funding to complement a proposed ANA funded pre-construction activity is evidence of a commitment. Statements about resources which have been committed to support a proposed project made in the application without supporting documentation will be disregarded.

Leveraged Resources: The total dollar value of all non-ANA resources that are committed to a proposed ANA project and are supported by documentation that exceed the 20% non-federal match required for an ANA grant. Such resources may include any natural, financial, and physical resources available within the tribe, organization, or community to assist in the successful completion of the project. An example would be a written letter of commitment from an organization that agrees to provide a supportive action, product, and service, human or financial contribution that will add to the potential success of the project.

Multi-purpose Organization: A community-based corporation whose charter specifies that the community designates the Board of Directors and/or officers of the organization through an elective procedure and that the organization functions in several different areas of concern to the members of the local Native American community. These areas are specified in the by-laws and/or policies adopted by the organization. They may include, but need not be limited to, economic, artistic, cultural, and recreational activities, and the delivery of human services such as day care, education, and training.

Multi-year Project: Encompasses a single theme and requires more than 12 or 17 months to complete. A multi-year project affords the applicant an opportunity to develop and address more complex and in-depth strategies that cannot be completed in one year. A multi-year project is a series of related objectives with activities presented in chronological order over a two or three year period. Prior to funding the second or third year, of a multi-year grant, ANA will require verification and support documentation from the Grantee that objectives and outcomes proposed in the preceding year were accomplished. Applicants proposing multi-year projects must complete and submit an Objective Work Plan (OWP) and budget with narrative for each project year, and fully describe objectives to be accomplished, outcomes to be achieved, and the results and benefits to determine the successful outcomes of each budget period. ANA will review the quarterly and annual reports of grantees to determine if the grantee is meeting its goals, objectives and activities identified in the OWP.

Objective(s): Specific outcomes or results to be achieved within the proposed project period that are specified in the Objective Work Plan. Completion of objectives must result in specific, measurable, outcomes that would benefit the community and directly contribute to the achievement of the stated community goals. Applicants should relate their proposed project objectives to outcomes that support the community's long-range goals.

Partnerships: Agreements between two or more parties that will support the development and implementation of the proposed project. Partnerships include other faith-based or community-based organizations or associations, Tribes, federal and state agencies and private or non-profit organizations, which may include faith-based organizations.

Performance Indicators: Measurement descriptions used to identify the outcomes or results of the project. Outcomes or results must be measurable to determine that the project has achieved its desired objective and can be independently verified through monitoring and evaluation.

Real Property: Land, including land improvements, structures, and appurtenances thereto, excluding movable machinery and equipment.

Renovation or Alteration: The work required to change the interior arrangements or other physical characteristics of an existing facility, or install equipment so that it may be more effectively used for the project. Alteration and renovation may include work referred to as improvements, conversion, rehabilitation, remodeling, or modernization, but is distinguished from construction.

Resolution: Applicants are required to include a current signed Resolution (a formal decision voted on by the official governing body) in support of the project for the entire project period. The Resolution should indicate who is authorized to sign documents and negotiate on behalf of the Tribe or organization. The Resolution should indicate that the community was involved in the project planning process, and indicate the specific dollar amount of any non-federal matching funds (if applicable).

Sustainable Project: A sustainable project is an on-going program or service that can be maintained without additional ANA funds.

Self-Sufficiency: The ability to generate resources to meet a community's needs in a sustainable manner. A community's progress toward self-sufficiency is based on its efforts to plan, organize, and direct resources in a comprehensive manner that is consistent with its established long-range goals. For a community to be self sufficient, it must have local access to, control of, and coordination of services and programs that safeguard the health, well being, and culture of the people that reside and work in the community.

Social Development: Investment in human and social capital for advancing the well being of members of the Native American community served. Social development is the action taken to support the health, education, culture, and employment options that expand an individual's capabilities and opportunities, and that promote social inclusion and combat social ills. Please note that this announcement is divided into two program areas. The first program area is Native Language Preservation and Maintenance (Category I Planning Grant) and the second program area is Native Language Preservation and Maintenance (Category II: Design and/or Implementation Grants). Information on the second program area immediately follows section VIII of program area one.

Program Area 1

Native Language Preservation and Maintenance (Category I Planning Grant): The purpose of a Planning Grant is to conduct an assessment and to develop the plan needed to describe the current status of the language(s) to be addressed and to establish community long-range goal(s) to ensure its survival. Program Area of Interest:

• Data collection, compilation, organization and description of current language status through a “formal” method (e.g., work performed by a linguist, and/or a language survey conducted by community members) or an “informal” method (e.g., a community consensus of the language status based on elders, tribal scholars, and/or other community members).

II. Award Information

Funding Instrument Type: Grant.

Anticipated Total Program Area 1 Funding: $1,000,000.

Anticipated Number of Awards: 10-15.

Average Projected Award Amount: $25,000 to $100,000.

Length of Project Period: 12 months.

Ceiling on Amount of Individual Awards: $100,000. An application that exceeds the upper value of the dollar range specified will be considered “non-responsive” and be returned to the applicant without further review.

Floor of Individual Award Amounts: $25,000.

III. Eligibility Information

1. Eligible Applicants

• Federally recognized Indian Tribes;

• Consortia of Indian Tribes;

• Incorporated non-Federally recognized Tribes;

• Incorporated non-profit multi-purpose community-based Indian organizations;

• Urban Indian Centers;

• National or regional incorporated non-profit Native American organizations with Native American community-specific objectives;

• Alaska Native villages, as defined in the Alaska Native Claims Settlement Act (ANSCA) and/or non-profit village consortia;

• Incorporated non-profit Alaska Native multi-purpose community based organizations;

• Non-profit Alaska Native Regional Corporations/Associations in Alaska with village specific projects;

• Non-profit Native organizations in Alaska with village specific projects;

• Public and non-profit private agencies serving Native Hawaiians;

• Public and non-profit private agencies serving native peoples from Guam, American Samoa, or the Commonwealth of the Northern Mariana Islands (the populations served may be located on these islands or in the continental United States);

• Tribally-controlled Community Colleges, Tribally-controlled Post-Secondary Vocational Institutions, and colleges and universities located in Hawaii, Guam, American Samoa or the Commonwealth of the Northern Mariana Islands which serve Native peoples; and

• Non-profit Alaska Native community entities or Tribal governing bodies (Indian Reorganization Act or Traditional Councils) as recognized by the Bureau of Indian Affairs.

Organizations in Palau are no longer eligible for assistance from ANA. (Legal authority: 48 U.S.C 1931)

Additional Information on Eligibility: Please refer to section I “Funding Opportunity Description” to review general ANA Administrative Policies for any applicable statutory policies pertaining to application eligibility.

In support of the Presidential Executive Orders on Asian American and Pacific Islanders, Community-based Alternatives for Individuals with Disabilities, and Faith-based and Community Organizations, ANA encourages greater participation from Hawaiian and Pacific Islander communities, encourages Native communities to address the needs of people with disabilities, and invites eligible faith-based and community organizations to apply. This program announcement will emphasize community-based, locally designed projects. This emphasis will increase the number of grants to local community organizations and expand the number of partnerships among locally based non-profit organizations. ANA will accept applications from multiple organizations in the same geographic area. Previously, under each competitive program area, ANA accepted one application that served or impacted a reservation, Tribe or Native American community. The reason for this change is to expand and support large Native American rural and urban communities that provide a variety of services in the same geographic area. Although Tribes are limited to three simultaneous ANA grants (SEDS, Language and Environmental) at any one time, this clarification allows other community based organizations to apply for ANA funding, provided the objectives and activities do not duplicate currently funded projects serving the same geographic area.

Proof of Non-Profit Status: Any non-profit organization submitting an application must submit proof of its non-profit status in its application at the time of submission. The non-profit agency can accomplish this by providing:

• A reference to the applicant organization's listing in the Internal Revenue Service's (IRS) most recent list of tax-exempt organizations described in the IRS Code; or

• A copy of the currently valid IRS tax exemption certificate; or

• A statement from a State taxing body, State Attorney General, or other appropriate State official certifying that the applicant organization has a non-profit status and none of the net earnings accrue to any private shareholders or individuals; or

• A certified copy of the organization's certificate of incorporation or similar document that clearly establishes non-profit status; or

• Any of the items in the subparagraphs immediately above for a State or national parent organization and a statement signed by the parent organization that the applicant organization is a local non-profit affiliate.

Resolution: Applicants are required to include a current signed Resolution (a formal decision voted on by the official governing body) in support of the project for the entire project period. The Resolution must indicate who is authorized to sign documents and negotiate on behalf of the Tribe or organization. The Resolution should indicate that the community was involved in the project planning process, and indicate the specific dollar amount of any non-federal matching funds (if applicable).

2. Cost Sharing or Matching

Grantees must provide at least 20 percent of the total approved cost of the project. The total approved cost of the project is the sum of the ANA share and the non-federal share. The required match can be computed by dividing total Federal funds by 80 percent for total project costs then subtracting the Federal portion. The remainder is the required match. Therefore, a project requesting $100,000 in Federal funds (per budget period) must provide a match of at least $ 25,000 ($100,000/80% = $125, 000−$100,000 = $25,000) which is 20% total approved project cost. Grantees will be held accountable for commitments of non-Federal resources even if over the amount of the required match. Failure to provide the non-federal share match will result in the disallowance of Federal match. Applications that fail to include the required amount of cost-sharing will be considered non-responsive and will not be eligible for funding under this announcement. A request for a waiver of the non-Federal share requirement may be submitted in accordance with 45 CFR 1336.50(b) (3) of the Native American Program regulations. Applications originating from American Samoa, Guam, or the Commonwealth of the Northern Mariana Islands are covered under section 501(d) of Public Law 95-134, as amended (48 U.S.C. 1469a) under which HHS waives any requirement for matching funds under $200,000 (including in-kind contributions). For ANA grants under this announcement there is no match required for these insular areas.

3. Other (If Applicable)

DUNS Number: On June 27, 2003, the Office of Management and Budget published in the Federal Register a new Federal policy applicable to all Federal grant applicants after giving notice in the Federal Register on June 27, 2002 and opportunity for public comment. The policy requires all Federal grant applicants to provide a Dun and Bradstreet Data Universal Numbering System (DUNS) number when applying for Federal grants or cooperative agreements on or after October 1, 2003. The DUNS number will be required whether an applicant is submitting a paper application or using the government-wide electronic portal (www.Grants.Gov). A DUNS number will be required for every application for a new award or renewal/continuation of an award, including applications or plans under mandatory grant programs, submitted on or after October 1, 2003. A DUNS number may be acquired at no cost by calling the dedicated toll-free DUNS number request line on 1-866-705-5711 or you may request a number on-line at http://www.dnb.com

An application that exceeds the $100,000 will be considered “non-responsive” and be returned to the applicant without further review.

Applications that fail to include the required amount of cost-sharing will be considered non-responsive and will not be eligible for funding under this announcement.

IV. Application and Submission Information

1. Address To Request Application Package

The ANA regional Training and Technical Assistance providers at:

Region I: AL, AR, CT, DC, DE, FL, GA, IA, IL, IN, KS, KY, LA, MA, MD, ME, MI, MN, MO, MS, NC, ND, NE, NH, NJ, NY, OH, OK, PA, RI, SC, SD, TN, TX, VA, VT, WI, W.VA.

Native American Management Services, Inc., 6858 Old Dominion Drive, Suite 302, McLean, Virginia 22101, Toll Free: 888-221-9686, (703) 821-2226 x-234, Fax: (703) 821-3680, Kendra King-Bowes, Project Manager, E-mail: kking@namsinc.org, www.anaeastern.org.

Region II: AZ, CA, CO, ID, MT, NM, NV, OR, UT, WA, WY.

ACKCO, Inc., 2214 N. Central, Suite 250, Phoenix, Arizona 85004, Toll Free: 800-525-2859, (602) 253-9211, Fax (602) 253-9135, Theron Wauneka, Project Manager, E-mail: theron.wauneka@ackco.com, www.anawestern.com.

Region III: Alaska.

Native American Management Services, Inc., 11723 Old Glenn Highway, Suite 201, Eagle River, Alaska 99577, Toll Free 877-770-6230, (907) 694.5711, Fax (907) 694.5775, P.J. Bell, Project Manager, E-mail: pjbell@gci.net, www.anaalaska.org.

Region IV: American Samoa (AS), Guam, HI, Commonwealth of Northern Mariana Islands (CNMI).

Council for Native Hawaiian Advancement, 33 South King Street, Suite 513, Honolulu, Hawaii 96813, Toll-Free 800-709-2642, (808) 521-5011, Fax: (808) 521-4111, Jade Danner, Project Manager, E-Mail: jade@hawaiiancouncil.org, www.anapacific.org.

2. Content and Form of Submission

Please refer to section I “Funding Opportunity Description” to review general ANA Administrative Policies for any applicable statutory policies pertaining to application content and form.

Application Submission: An original and two copies of the complete application are required. The original copy must include all required forms, certifications, assurances, and appendices, be signed by an authorized representative, have original signatures, and be submitted unbound. The two additional copies of the complete application must include all required forms, certifications, assurances, and appendices and must also be submitted unbound. Applicants have the option of omitting from the application copies (not the original) specific salary rates or amounts for individuals specified in the application budget. A complete application for assistance under this Program Announcement consists of Three Parts. Part One is the SF 424, Required Government Forms, and other required documentation. Part Two of the application is the project substance of the application. This section of the application may not exceed 45 pages. Part Three of the application is the Appendix. This section of the application may not exceed 20 pages (the exception to this 20 page limit applies only to projects that require, if relevant to the project, a Business Plan or any Third-Party Agreements).

Electronic Submission: While ACF does have the capability to receive program announcement applications electronically through Grants.gov, electronic submission of applications will not be available for this particular announcement. There are required application form(s) specific to ANA that have not yet received clearance from Grants.gov. While electronic submission of applications may be available in the next fiscal year for this program, no electronic submission of applications will be accepted for this announcement this year as they would be missing those required ANA forms and be considered incomplete.

Organization and Preparation of Application: Due to the intensity and pace of the application review and evaluation process, ANA strongly recommends applicants organize, label, and insert required information in accordance with Part One, Part Two and Part Three as presented below. The application should begin with the information requested in Part One. Utilizing this format will insure all information submitted to support an applicant's request for funding is thoroughly reviewed. Deviation from this suggested format may reduce the applicant's ability to receive maximum points, which are directly related to ANA's funding review decisions.

ANA Application Format: This format applies to all applicant prepared documents submitted in response to this announcement. All pages submitted (including Government Forms, certifications and assurances) should be numbered consecutively (for example, the first page of the application should be labeled as page one). The paper size shall be 8½ x 11 inches. Application pages must be numbered, line spacing shall be a space and a half (1.5 line-spacing), printed only on one side, and have a half-inch margin on all sides of the paper (Note: the 1.5 line-spacing does not apply to the Project Abstract Form, Letters of Commitment, the Table of Contents, and the Objective Work Plans). The font size should be no smaller than 12-point and the font type shall be Times New Roman.

Forms and Assurances: The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: www.acf.hhs.gov/programs/ofs/forms.htm. Fill out Standard Forms 424 and 424A and the associated certifications and assurances based on the instructions on the forms.

Survey: Private, non-profit organizations are encouraged to submit with their applications the survey located under “Grant Related Documents and Forms” titled “Survey for Private, Non-Profit Grant Applicants” at www.acf.hhs.gov/programs/ofs/forms.htm. (OMB No. 1890-0014 exp. 1/31/06).

3. Submission Date and Time

The closing time and date for receipt of applications is 4:30 p.m. (Eastern Standard Time) on April 2, 2004. Mailed or hand-delivered applications received after 4:30 p.m. on the closing date will be classified as late.

Deadline: Mailed applications shall be considered as meeting an announced deadline if received on or before the deadline time and date at the U.S. Department of Health and Human Services, Administration for Children and Families, Office of Grants Management, Division of Discretionary Grants, 370 L'Enfant Promenade, SW., Washington, DC 20447. This address must appear on the envelope/package containing the application with the note “Attention: Lois B. Hodge”. Applicants are cautioned that express/overnight mail services do not always deliver as agreed.

Hand-delivered applications shall be considered as meeting an announced deadline if received on or before the deadline date, between the hours of 8 a.m. to 4:30 p.m., EST, Monday through Friday (excluding Federal holidays). Applications may be delivered to the U.S. Department of Health and Human Services, Administration for Children and Families, Office of Grants Management, Division of Discretionary Grants, ACF Mail Room, Second Floor Loading Dock, Aerospace Center, 901 D Street, SW., Washington, DC 20024. This address must appear on the envelope/package containing the application with the note “Attention: Lois B. Hodge”. Applicants are cautioned that express/overnight mail services do not always deliver as agreed.

Late Applications: Applications that do not meet the Deadline criteria above will be considered late applications. ACF shall notify each late applicant that its application will not be considered in the current competition.

Extension of Deadline: ACF may extend application deadlines when circumstances such as acts of God (floods, hurricanes, etc.) occur, when there are widespread disruptions of mail service. Determinations to extend or waive deadline requirements rest with the Chief Grants Management Officer.

Required Forms: All requirements for submission are due on or before the deadline date.

Part One.—Federal Forms and Other Required Documents
Part One must include the following: | Content and location of part one required forms, certifications and documents
SF 424, SF 424 A, and SF 424B | http://www.acf.hhs.gov/programs/ofs/forms.htm.
Table of Contents | Applicant must include a table of contents that accurately identifies the page number and where the information can be located. Table of Contents does not count against application page limit.
Project Abstract | ANA Form: OMB Clearance Number 0980-0204.
| http://www.acf.hhs.gov/programs/ana.
Proof of Non-Profit Status | As described in this announcement under Section “Other Eligibility Information”.
Resolution | Information for submission can be found in the Program Announcement Section “Other Eligibility Information”.
Documentation that the Board of Directors is majority Native American, if applicant is other than a tribe or Alaska Native Village government. | As described in this announcement under “ANA Administrative Policies”.
Audit Letter | A Certified Public Accountant's “Independent Auditors' Report on Financial Statement.” This is usually only a two to three page document. (This requirement applies only to applicants with annual expenditures of $300,000 or more of federal funds). Applicant must also include that portion of the audit document that identifies all other federal sources of funding.
Indirect Cost Agreement | Organizations and Tribes must submit a current indirect cost agreement (if claiming in-direct costs) that aligns with the approved ANA project period. The In-direct Cost Agreement must identify the individual components and percentages that make up the indirect cost rate.
Non-Federal Share of Waiver Request, per 45 CFR 1336.50(b) | A request for a waiver of the non-Federal share requirement may be submitted in accordance with 45 CFR 1336.50(b) (3) of the Native American Program regulations. (if applicable).
Certification regarding Lobbying Disclosure of Lobbying Activities—SF LLL | May be found at www.acf.hhs.gov/programs/ofs/forms.htm.
Certification regarding Maintenance of Effort | May be found at www.acf.hhs.gov/programs/ofs/forms.htm.
Environmental Tobacco Smoke Certification | May be found at http://www.acf.hhs.gov/programs/ofs/forms.htm.

Part Two.—Application Review Criteria
Part two—proposed project | Application Review Criteria—This section may not exceed 45 pages
Criteria One (5 pts) | Introduction and Project Summary/Project Abstract.
Criteria Two (20 pts) | Objectives and Need for Assistance.
Criteria Three (25 pts) | Approach: Include an Objective Work Plan (OWP) form for each 12 months of a project period. (Only one form is necessary for a 17-month project period).
Criteria Four (20 pts) | Organizational Capacity.
Criteria Five (20 pts) | Results or Benefits Expected.
Criteria Six (10 pts) | Budget and Budget Justification Summary/Cost Effectiveness.

Part Three.—Appendix
| Appendix
Part Three—Support Documentation | This section may not exceed 20 pages. Part Three includes only supplemental information or required support documentation that addresses the applicant's capacity to carry out and fulfill the proposed project. These items include: letters of agreement with cooperating entities, in-kind commitment and support letters, business plans, and a summary of the Third Party Agreements. Do not include books, videotapes, studies or published reports and articles, as they will not be made available to the reviewers, or be returned to the applicant.

Additional Forms: Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

Applications are not subject to Executive Order 12372.

5. Funding Restrictions

ANA does not fund:

• Activities in support of litigation against the United States Government that are unallowable under OMB Circulars A-87 and A-122.

• ANA has a policy of not funding duplicative projects or allowing any one community to receive a disproportionate share of the funds available for award. When making decisions on awards of grants the Agency will consider whether the project is essentially identical or similar, in whole or significant part, to projects in the same community previously funded or being funded under the same competition. The Agency will also consider whether the grantee is already receiving funding for a SEDS, Language, or Environmental project from ANA. The Agency will also take into account in making funding decisions whether a proposed project would require funding on indefinite or recurring basis. This determination will be made after it is determined whether the application meets the requirements for eligibility as set forth in 45 CFR part 1336, subpart C, but before funding decisions are complete.

• Projects in which a grantee would provide training and/or technical assistance (T/TA) to other tribes or Native American organizations that are otherwise eligible to apply for ANA funding. However, ANA will fund T/TA requested by a grantee for its own use or for its members' use (as in the case of a consortium), when the T/TA is necessary to carry out project objectives.

• The purchase of real property or construction because those activities are not authorized by the Native American Programs Act of 1974, as amended.

• Objectives or activities to support core administration activities of an organization. However, functions and activities that are clearly project related are eligible for grant funding. Under Alaska SEDS projects, ANA will consider funding core administrative capacity building projects at the village government level if the village does not have governing systems in place.

• Costs associated with fund raising, including financial campaigns, endowment drives, solicitation of gifts and bequests, and similar expenses incurred solely to raise capital or obtain contributions are unallowable under an ANA grant award.

• Major renovation or alteration because those activities are not authorized under the Native American Programs Act of 1974, as amended.

• Projects originated and designed by consultants who provide a major role for themselves and are not members of the applicant organization, Tribe, or village.

• Project activities that do not further the three interrelated ANA goals of economic development or social development or governance, or meet the purpose of this program announcement.

6. Other Submission Requirements

Submission by Mail: An Applicant must provide a complete original and two copies of the application with all required forms and signed by the authorized representative. The Application must be received at the address below by 4:30 p.m. Eastern Standard Time on or before the closing date. Applications should be mailed to: U.S. Department of Health and Human Services, Administration for Children and Families, Office of Grants Management, Division of Discretionary Grants, “Attention: Lois B. Hodge”, 370 L'Enfant Promenade, SW., Washington, DC 20447.

For Hand-Delivery: An Applicant must deliver a complete original and two copies of the application with all required forms and signed by the authorized representative. Applications shall be considered as meeting an announced deadline if received on or before the deadline date, between the hours of 8 a.m. to 4:30 p.m., EST, Monday through Friday (excluding Federal holidays). Applications may be delivered to the U.S. Department of Health and Human Services, Administration for Children and Families, Office of Grants Management, Division of Discretionary Grants, ACF Mail Room, Second Floor Loading Dock, Aerospace Center, 901 D Street, SW., Washington, DC 20024. This address must appear on the envelope/package containing the application with the note “Attention: Lois B. Hodge”. Applicants are cautioned that express/overnight mail services do not always deliver as agreed.

V. Application Review Information

1. Criteria

Instructions: ACF Uniform Project Description (UPD)

The UPD text should be used as general guidance in the development of projects. However, the specific ANA application submission format to be used in response to this announcement is located in section IV Application and Submission Information.

Purpose: The Project Description is a major area by which an application is evaluated and ranked in competition with other applications for financial assistance. The Project Description should be concise and complete and should address the activity for which Federal funds are being requested. Supporting documents should be included if they present information clearly and succinctly. In preparing your Project Description, all information requested through each specific evaluation criteria should be provided. ANA uses this and other information to make funding decisions. It is important, therefore, that this information be included in the application.

General Instructions: ANA is particularly interested in specific factual information and statements of measurable goals and performance indicators in quantitative terms. Project descriptions are evaluated on a basis of substance, not length. Extensive exhibits are not required. Cross-referencing should be used rather than repetition. Supporting information that does not directly pertain to an integral part of the grant-funded activity should be placed in the appendix. The application narrative should be in a 12-pitch font. A table of contents and an executive summary should be included. Each page should be numbered sequentially, including attachments or appendices. Please do not include books, videotapes or published reports because they are not easily reproduced, are inaccessible to the reviewers, and will not be returned to the applicant.

Introduction: Applicants are required to submit a full Project Description and shall prepare this portion of the grant application in accordance with the following instructions and the specified evaluation criteria. The introduction provides a broad overview of the Project, and the information provided under each evaluation criteria expands and clarifies the project program-specific activities and information that reviewers will need to assess the proposed project.

Project Summary: Provide a summary of the Project Description (a page or less) with reference to the funding request.

Objectives and Need for Assistance: Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the Project Description, the applicant should provide information on the total range of projects currently being conducted and supported (or to be initiated) to ensure they are within the scope of the program announcement.

Results or Benefits Expected: Identify the results and benefits to be derived by the community and its members. For example, applicants are encouraged to describe the qualitative and quantitative data collected, how this data will measure progress towards the stated results or benefits, and how performance indicators under economic and social development and governance projects can be monitored, evaluated and verified.

Approach: Outline a plan of action that describes the scope and detail of how the proposed work will be accomplished. Account for all functions or activities identified in the application. Cite factors, which might accelerate or decelerate the work and state your reason for taking the proposed approach rather than others. Describe any unusual features of the project such as design or technological innovations, reductions in cost or time, extraordinary social and community involvement or ease of project replication by other tribes and Native organizations. List organizations, cooperating entities, consultants, or other key individuals who will work on the project along with a short description of the nature of their effort or contribution. Provide quantitative monthly or quarterly projections of the accomplishments to be achieved for each function or activity in such terms as the number of people served and the number of activities accomplished. Examples of these activities would be the number of businesses started or expanded, the number of jobs created or retained, the number of people trained, the number of youth, couples or families assisted or the number elders participating in the activity during that reporting period. When accomplishments cannot be quantified by activity or function, list them in chronological order to show the dates and schedule of accomplishments. List organizations, cooperating entities, consultants, or other key individuals who will work on the project, as well as a short description of the nature of their effort or contribution.

Organizational Profiles: Provide information on the applicant organization(s) and cooperating partners with organizational charts, financial statements, audit reports or statements from CPA/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Third-Party Agreements: Include written agreements between grantees and sub grantees or subcontractors or other cooperating entities. These agreements must detail scope of work to be performed, work schedules, remuneration, and other terms and conditions that structure or define the relationship.

Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allow-ability of the proposed costs.

Additional Information: The following are requests for additional information that need to be included in the application: Any non-profit organization submitting an application must submit proof of its non-profit status in the application at the time of submission. The non-profit organization shall submit one of the following (i) a reference to the applicant organization's listing in the Internal Revenue Service's (IRS) most recent list of tax-exempt organizations described in the IRS Code; or (ii) a copy of the currently valid IRS tax exemption certificate; or (iii) a statement from a State taxing body, State Attorney General, or other appropriate State official certifying that the applicant organization has a non-profit status and none of the net earnings accrue to any private shareholders or individuals; or (iv) a certified copy of the organization's certificate of incorporation or similar document that clearly establishes non-profit status; or (v) any of the items in the subparagraphs immediately above for a State or national parent organization and a statement signed by the parent organization that the applicant organization is a local non-profit affiliate. Organizations incorporating in American Samoa are cautioned that the Samoan government relies exclusively upon IRS determinations of non-profit status; therefore, articles of incorporation approved by the Samoan government do not establish non-profit status for the purpose of ANA program eligibility.

General: The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: First column, object class categories; second column, Federal budget; next column(s), non-Federal budget(s); and last column, total budget. The budget justification should be a narrative.

• Personnel: The description of the costs of employee salaries and wages. Identify the project director or principal investigator, if known. For each staff person, provide the title, time commitment to the project (in months), or time commitment to the project (as a percentage or full-time equivalent), annual salary, grant salary, wage rates, etc. Do not include the costs of consultants or personnel costs of delegate agencies or of specific project(s) or businesses to be financed by the applicant.

• Fringe Benefits: Costs of employee fringe benefits unless treated as part of an approved indirect cost rate. Provide a breakdown of the amounts and percentages that comprise fringe benefit costs such as health insurance, FICA, retirement insurance, taxes, etc.

• Travel: Costs of project-related travel by employees of the applicant organization (does not include costs of consultant travel). Justification: For each trip, show the total number of traveler(s), travel destination, duration of trip, per diem, mileage allowances, if privately owned vehicles will be used, and other transportation costs and subsistence allowances. Travel costs for key staff to attend ACF-sponsored workshops should be detailed in the budget.

• Equipment: Equipment means an article of nonexpendable, tangible personal property having a useful life of more than one year and an acquisition cost, which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.). Justification: For each type of equipment requested, provide a description of the equipment, the cost per unit, the number of units, the total cost, and a plan for use on the project, as well as use or disposal of the equipment after the project ends. An applicant organization that uses its own definition for equipment should provide a copy of its policy or section of its policy, which includes the equipment definition.

• Supplies: Costs of all tangible personal property other than that included under the Equipment category. Justification: Specify general categories of supplies and their costs. Show computations and provide other information that supports the amount requested.

• Contractual: Costs of all contracts for services and goods except for those, which belong under other categories such as equipment, supplies, construction, etc. Third-party evaluation contracts (if applicable) and contracts with secondary recipient organizations, including delegate agencies and specific project(s) or businesses to be financed by the applicant, should be included under this category. Justification: All procurement transactions shall be conducted in a manner to provide, to the maximum extent practical, open and free competition. Recipients and sub-recipients, other than States that are required to use Part 92 procedures, must justify any anticipated procurement action that is expected to be awarded without competition (sole source) and exceed the simplified acquisition threshold fixed at 41 U.S.C. 403(11) (currently set at $100,000.). Recipients may be required to make available to ANA pre-award review and procurement documents, such as request for proposals or invitations for bids, independent cost estimates, etc. Note: Whenever the applicant intends to delegate part of the project to another agency, the applicant must provide a detailed budget and budget narrative for each delegate agency, by agency title, along with the required supporting information referred to in these instructions.

• Other: Enter the total of all other costs. Such costs, where applicable and appropriate, may include but are not limited to insurance, food, medical and dental costs (noncontractual), professional services costs, space and equipment rentals, printing and publication, computer use, training costs, such as tuition and stipends, staff development costs, and administrative costs. Justification: Provide computations, a narrative description, and a justification for each cost under this category.

• Indirect Charges: Total amount of indirect costs. This category should be used only when the applicant currently has an indirect cost rate approved by the Department of the Interior, Department of Labor, the Department of Health and Human Services (HHS), or other Federal agency. Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

• Program Income: The estimated amount of income, if any, expected to be generated from this project. Justification: Describe the nature, source, and anticipated use of program income in the budget or refer to the pages in the application, which contain this information.

• Non-Federal Resources: Amounts of non-Federal resources that will be used to support the project as identified in Block 15 of the SF-424. Justification: The firm commitment of these resources must be documented and submitted with the application in order to be given credit in the review process. A detailed budget must be prepared for each budget period.

• Total Direct Charges, Total Indirect Charges, and Total Project Costs

Evaluation Criteria: ANA

Approach (25 Points). The Applicant's narrative should be clear and concise. The applicant should provide a detailed project description with goals and objectives. It should discuss the project strategy and implementation plan over the project period. Applicant should describe the project strategy using the Objective Work Plan (OWP). In the OWP, the applicant should identify the project objectives, time frames, proposed activities, outcomes, and evaluation activity, as well as the individuals responsible for completing the objectives and performing the activities. Applicant should summarize how the project description, objective(s), approach, strategy and implementation plan are inter-related. The applicant should also include the names and activities of any organizations, consultants, or other key individuals who will contribute to the project.

The applicant should discuss the planning and/or consultation efforts undertaken, and the proposed objectives and activities that reflect the language needs of the local community. The applicant explains how elders and other community members are involved in the development of the language goals and strategies.

The Applicant should discuss any Leveraged Resources (see Definitions) used to strengthen and broaden the impact of the proposed project. The Applicant should discuss commitments and contributions from other entities will enhance the project. Applicant should provide “Letters of Commitment” that identify the time, dollar amount, and activity to be accomplished through partnerships. Applicants should discuss the relationship of non-ANA funded activities to those objectives and activities that will be funded with ANA grant funds. (Letters of Commitment are included in the Appendix).

Objectives and Need for Assistance (20 Points). Applicant should show a clear relationship between the proposed project, the strategy and community's long-range goals. The need for assistance should clearly identify the physical, economic, social, financial, governmental, and institutional challenges and problem(s) requiring a solution that supports the funding request. Describe the community (see Definitions) to be affected by the project and the community involvement in the project. The Applicant should describe the community's long-range goals, and the community planning process and how the project supports these goals. Discuss the geographic location of the project and where the project and grant will be administered.

Applications from National American Indian and Native American organizations must clearly demonstrate a need for the project, explain how the project originated, and discuss the community-based program delivery strategy of the project, identify and describe the intended beneficiaries, describe and relate the actual project benefits to the community and organization, and describe a community-based program delivery system. National Indian and Native organizations should describe their membership and define how the organization operates, and demonstrates native community and/or Tribal government support for the project. The type of community served will determine the type of documentation necessary.

The applicant fully describes the status of Native American language(s) in the community. Since obtaining this data may be part of the planning grant application being reviewed, applicants can meet this requirement by explaining their current language status and providing a detailed description of any circumstances or barriers, which have prevented the collection of community language data. If documentation exists, describe it in terms of current language status.

Applicants should discuss and present objectives and goals to be achieved and evaluated at the end of each budget period. Proposed project objectives support the identified need and should be measurable.

Organizational Profile (20 Points). Provide information on the management structure of the Applicant and the organizational relationships with its cooperating partners. Include organizational charts that indicate how the proposed project will fit in the existing structure. Describe the applicant's capabilities such as the administrative structure, and its ability to administer a project of the proposed scope and its capacity to fulfill the implementation plan.

If the applicant proposes to enter into a partnership arrangement with a school, college or university, documentation of this commitment must be included in the application.

Applicants are required to affirm that they will credit the Administration for Native Americans, and reference the ANA funded project on any audio, video, and/or printed materials developed in whole or in part with ANA funds.

Applicants should list all current sources of federal funding, the agency, purpose, amount, and provide the most recent certified signed audit letter for the organization to be included in Part One of the application. If the applicant has audit exceptions, these issues should be addressed.

Applicants should provide “staffing and position data” to include a proposed staffing pattern for the project where the applicant highlights the new project and staff. Positions discussed in this section must match the positions identified in the Objective Work Plan and in the proposed budget. Note: Applicants are strongly encouraged to give preference to qualified Native Americans in hiring project staff and in contracting services under an approved ANA grant. Applicant should provide a paragraph of the duties and skills required for the proposed staff and a paragraph on qualifications and experience of current staff. Full position descriptions are required to be submitted and included in the Appendix. Applicant should explain how the current and future staff will manage the proposed project. Brief biographies of key positions or individuals should be included.

Results or Benefits Expected (20 Points). In this section the applicant should discuss the “Performance Indicators” (see Definitions) and the benefits expected as a result of this project. Performance indicators identify qualitative and quantitative data directly associated with the project. Each applicant should submit five indicators to support the applicant's project. Three performance indicators should be selected from the list below. Each grantee is required to develop two additional indicators specific to the project that directly support the goals and objectives. For each performance indicator selected the applicant should discuss the relevance of the data, the method for collecting the data, and the evaluation process. Performance indicators will be reported to ANA in the grantee's quarterly report. For Category I applications, three of the five performance indicators required, will be selected from the following list: (1) The type(s) of assessments used; (2) the number of community meetings held to engage the public; (3) the number of communities surveyed; (4) the number of surveys distributed and number returned; (5) identify methods of assessment used; and (6) the number of children, youth, families or elders involved.

The applicant will indicate how it will measure the success of the separate project components and the project as a whole. The applicant should describe how the success of the project would be evaluated and verified by an independent program monitoring and evaluation team. Applicant should provide a narrative on the specific performance indicators that can be analyzed, measured, monitored, and evaluated. Relate these performance indicators to the project goals, objectives, and outcomes. Project outcomes support the identified need and should be measurable.

Budget and Budget Justification/Cost Effectiveness (10 Points). Budget and Budget Justification: An applicant must submit an itemized budget detailing the applicant's Federal and non-Federal share and citing source(s) of funding. A budget narrative describing the line item budget should be included. The budget should include a line item justification for each Object Class Category listed under Section B—“Budget Categories” of the “Budget Information-Non Construction Programs on the SF 424A form. The budget should include the necessary details to facilitate the determination of allowable costs and the relevance of these costs to the proposed project.

Applicant should briefly explain its operational budget and any additional anticipated funding (including unique financial circumstances, with potential impact on the project such as upcoming monetary or land settlements), and how the proposed project fits in the overall budget.

The non-federal budget share should identify the source and be supported by letters of commitment. Letters of commitment (see Definitions) are binding when they specifically state the nature, the amount, and conditions under which another agency or organization will support a project funded with ANA funds. These resources may be human, natural, or financial, and may include other Federal and non-Federal resources. For example, a letter from another Federal agency or foundation pledging a commitment of $200,000 in construction funding to complement proposed ANA funded pre-construction activity is evidence of a firm funding commitment. Statements that additional funding will be sought from other specific sources are not considered a binding commitment of outside resources. Letters of Support merely express another organization's endorsement of a proposed project. Support letters are not binding commitment letters. They do not factually establish the authenticity of other resources and do not offer or bind specific resources to the project.

If an applicant plans to charge or otherwise seek credit for indirect costs in its ANA application, a current copy of its Indirect Cost Rate Agreement should be included in the application, with all cost broken down by category so ANA reviewers can determine what is included in the indirect cost pool. Applicants that do not submit a current Indirect Cost Rate Agreement, may not be able to claim the allowable cost, may have the grant award amount reduced, or result in a delay in grant award.

Applicants are strongly encouraged to include sufficient funds for principal representatives, such as the chief financial officer or project director from the applicant organization to travel to one ANA post-award grant training and technical assistance workshop. This expenditure is allowable for new grant recipients and optional for grantees that have had previous ANA grant awards, and will be negotiated upon award. Applicants may also include costs to travel to an ANA grantee conference.

Cost Effectiveness: This criterion reflects ANA's concern with ensuring that the expenditure of its limited resources yields the greatest benefit possible in achieving the preservation of Native American languages. Applicants demonstrate this by: summarizing partnerships and the efficient use of leveraged resources; explaining the impact on the identified community through measurable project outcomes; and presenting a project that is completed, or self-sustaining or supported by other than ANA funds by the end of the project period.

Introduction and Project Summary/Project Abstract (5 Points). Using the ANA Project Abstract, the applicant should provide a Project Introduction. The Introduction will provide the reader an overview and some details of the proposed project. This is where the project is introduced to the peer review panel. Identify the name of the applicant, location of the community to be served by the proposed project, the project activities, amount requested, amount of matching funds to be provided, the length of time required to accomplish the project, and the outcomes or outputs to be achieved.

2. Review and Selection Process

Initial Screening: Each application submitted under this program announcement will undergo a pre-review screening to determine if (a) the application was received by the Program Announcement closing date; (b) the application was submitted in accordance with Section IV, “Application and Submission Information''; (c) the applicant is eligible for funding in accordance with Section III of this program announcement; (d) the applicant has submitted the proper support documentation such as proof of non-profit status, resolutions, and required government forms; (e) an authorized representative has signed the application; and (f) applicant has a DUNS number. An application that fails to meet one of the above elements will be determined to be incomplete and excluded from the competitive review process. Applicants, with incomplete applications, will be notified by mail within 30 business days from the closing date of this program announcement. ANA staff cannot respond to requests for information regarding funding decisions prior to the official applicant notification. After the Commissioner has made decisions on all applications, unsuccessful applicants will be notified in writing within 90 days. If pertinent, the notification will present the application weaknesses identified during the review process. Applicants are not ranked based on general financial need. Applicants, who are initially excluded from competition because of ineligibility, may appeal the decision. Applicants may also appeal an ANA decision that an applicant's proposed activities are ineligible for funding consideration. The appeals process is stated in the final rule published in the Federal Register on August 19, 1996 (61 FR 42817 and 45 CFR part 1336, subpart C).

Competitive Review Process: Applications that pass the initial screening process will be analyzed, evaluated and rated by an independent review panel on the basis of the evaluation criteria specified below. The evaluation criteria were designed to analyze and assess the quality of a proposed community-based project, the likelihood of its success, and the ability to monitor and evaluate community impact and long-term results. The evaluation criteria and analysis are closely related and are wholly considered in judging the overall quality of an application. In addition, the evaluation criteria will standardize the review of each application and distribute the number of points more equitably. Applications will be evaluated in accordance with the program announcement criteria and ANA's program areas of interest. A determination will be made as to whether the proposed project is an effective use of federal funds.

Application Review Criteria: ANA has expanded the review criteria to allow for a more equitable distribution of points during the application review and competition process. The use of the six criteria distributes the number of points more equitably. Based on the ACF Uniform Project Description, ANA's criteria categories are Project Introduction; Objectives and Need for Assistance; Project Approach; Organizational Capacity; Results and Benefits Expected; and Budget and Budget Narrative.

As non-Federal reviewers will be used, applicants have the option of omitting from the application copies (not original) specific salary rates or amounts for individuals specified in the application budget and Social Security Numbers, if otherwise required for individuals. The copies may include summary salary information.

Application Consideration: The Commissioner's funding decision is based on: an analysis of the application by the review panel, panel review scores and comments; an analysis by ANA staff and review of previous ANA grant award performance (such as timely reporting and successful grant close-out); comments of State and Federal agencies having contract and grant performance related information; and other interested parties. The Commissioner makes grant awards consistent with the purpose of the Native American Programs Act (NAPA), all relevant statutory and regulatory requirements, this program announcement, and the availability of appropriated funds. The Commissioner reserves the right to award more, or less, than the funds described or under such circumstances as may be deemed to be in the best interest of the federal government. Applicants may be required to reduce the scope of projects based on the amount of approved award.

VI. Award Administration Information

1. Award Notice

Approximately 120 days after the application due date, the successful applicants will be notified by mail through the issuance of a Financial Assistance Award document which will set forth the amount of funds granted, the terms and conditions of the grant, the effective date of the grant, the budget period for which initial support will be given, the non-Federal share to be provided and the total project period for which support is contemplated. The Financial Assistance Award will be signed by the Grants Officer and sent to the applicants Authorizing Official.

Organizations whose applications will not be funded will be notified in writing.

2. Administrative and National Policy Requirements

45 CFR part 74, 45 CFR part 92, 45 CFR part 1336, subpart C, and 42 U.S.C. 2991 et seq.—Native American Programs Act of 1974.

Paperwork Reduction Act of 1995 (Pub. L. 104-13): Public reporting burden for this collection of information is estimated to average 120 hours per response, including the time for reviewing instructions, gathering and maintaining the data needed and reviewing the collection information. The project description is approved under OMB control number 0970-0139 which expires 3/31/04. The Survey on Ensuring Equal Opportunity for Applicants form is approved under OMB control number 1890-0014 which expires 1/31/06.

3. Reporting Requirements

Programmatic Reports: Quarterly.

Financial Reports: Quarterly.

Special Reporting Requirements: An original and two copies of each performance report and financial status report must be submitted to the Grants Officer. Failure to submit these reports when required will mean the grantee is non-compliant with the terms and conditions of the grant award and subject to administrative action or termination. Performance reports are submitted 30 days after each quarter (3-month intervals) of the budget period. The final performance report, due 90 days after the project period end date, shall cover grantee performance during the entire project period. All grantees shall use the SF 269 (Long Form) to report the status of funds. Financial Status Reports are submitted 30 days after each quarter (3-month intervals) of the budget period. The final report shall be due 90 days after the end of the project period.

VII. Agency Contacts

Program Office Contact: ANA Applicant Help Desk, 370 L'Enfant Promenade, SW., Aerospace Building 8th Floor-West, Washington, DC 20447-0002, Telephone: 202-690-7776 or toll-free at 1-877-922-9262, E-mail: ana@acf.hhs.gov.

Grants Management Office Contact: Lois B. Hodge, 370 L'Enfant Promenade, SW., Aerospace Building 8th Floor-West, Washington, DC 20447-0002, Telephone: (202) 401-2344, E-mail: Lhodge@acf.dhhs.gov.

VIII. Other Information

Training and Technical Assistance: All potential ANA applicants are eligible to receive training and technical assistance in the Native Language program area. Prospective applicants should check ANA's Web site for training and technical assistance dates and locations, or contact the ANA Help Desk at 1-877-922-9262. Due to the new application and program additions and modifications, ANA strongly encourages all prospective applicants to participate in free pre-application training.

Program Area 2

Native Language Preservation and Maintenance (Category II: Design and/or Implementation Grants)

The purposes of Design and/or Implementation Grants are so Tribes or communities may design and/or implement a language program to achieve their long-range goal(s) and to accommodate the Tribe or community in reaching their long-term language goal(s).

Program Areas of Interest under Category II include:

• Projects that produce culturally relevant printed stories for children on mental and physical disabilities using the Native language of the community.

• Establish and/or support of a community language project to bring older and younger Native Americans together to facilitate and encourage the teaching of Native American language skills from one generation to another;

• Establish and/or support training projects to teach Native American languages or to serve as interpreters or translators of Native languages;

• Projects that develop, print, and/or disseminate materials to be used for the teaching and enhancement of Native American languages;

• Projects that implement an immersion model, mentor, or incorporate distance learning for the teaching of the Native language.

• Projects to distribute or broadcast Native languages;

• Establish and/or support training projects to produce or participate in, television, radio or other media forms, to be broadcast in Native American languages;

• Projects that compile, transcribe and perform analysis of oral testimony in order to record and preserve the language; and,

• Project that purchase specialized equipment (including audio and video recording equipment, computers, and software) necessary to achieve the project objectives. The applicant must fully justify the need for this equipment and explain how it will be used to achieve the project objectives.

II. Award Information

Funding Instrument Type: Grant.

Anticipated Total Program Area 2 Funding: $1,000,000.

Anticipated Number of Awards: 10-20.

Average Projected Award Amount: $25,000 to $175,000.

Length of Project Period: 12, 17, 24, or 36 months.

Ceiling on Amount of Individual Awards: $175,000.

An application that exceeds the upper value of the dollar range specified will be considered “non-responsive” and be returned to the applicant without further review.

Floor Amount: $25,000.

III. Eligibility Information

1. Eligible Applicants

• Federally recognized Indian Tribes;

• Consortia of Indian Tribes;

• Incorporated non-Federally recognized Tribes;

• Incorporated non-profit multi-purpose community-based Indian organizations;

• Urban Indian Centers;

• National or regional incorporated non-profit Native American organizations with Native American community-specific objectives;

• Alaska Native villages, as defined in the Alaska Native Claims Settlement Act (ANSCA) and/or non-profit village consortia;

• Incorporated non-profit Alaska Native multi-purpose community based organizations;

• Non-profit Alaska Native Regional Corporations/Associations in Alaska with village specific projects.

• Non-profit Native organizations in Alaska with village specific projects;

• Public and non-profit private agencies serving Native Hawaiians;

• Public and non-profit private agencies serving native peoples from Guam, American Samoa, or the Commonwealth of the Northern Mariana Islands (the populations served may be located on these islands or in the continental United States);

• Tribally-controlled Community Colleges, Tribally-controlled Post-Secondary Vocational Institutions, and colleges and universities located in Hawaii, Guam, American Samoa or the Commonwealth of the Northern Mariana Islands which serve Native peoples; and

• Non-profit Alaska Native community entities or Tribal governing bodies (Indian Reorganization Act or Traditional Councils) as recognized by the Bureau of Indian Affairs.

Organizations in Palau are not longer eligible for assistance from ANA. (Legal authority: 48 U.S.C 1931).

Additional Information on Eligibility: Please refer to section I “Funding Opportunity Description” to review general ANA Administrative Policies for any applicable statutory policies pertaining to application eligibility.

In support of the Presidential Executive Orders on Asian American and Pacific Islanders, Community-Based Alternatives for Individuals With Disabilities, and Faith-Based and Community Organizations, ANA encourages greater participation from Hawaiian and Pacific Islander communities, encourages Native communities to address the needs of people with disabilities, and invites eligible faith-based and community organizations to apply. This program announcement will emphasize community-based, locally designed projects. This emphasis will increase the number of grants to local community organizations and expand the number of partnerships among locally based non-profit organizations. ANA will accept applications from multiple organizations in the same geographic area. Previously, under each competitive program area, ANA accepted one application that served or impacted a reservation, Tribe or Native American community. The reason for this change is to expand and support large Native American rural and urban communities that provide a variety of services in the same geographic area. Although Tribes are limited to three simultaneous ANA grants (SEDS, Language and Environmental) at any one time, this clarification allows other community based organizations to apply for ANA funding, provided the objectives and activities do not duplicate currently funded projects serving the same geographic area.

Proof of Non-Profit Status: Any non-profit organization submitting an application must submit proof of its non-profit status in its application at the time of submission. The non-profit agency can accomplish this by providing:

• A reference to the applicant organization's listing in the Internal Revenue Service's (IRS) most recent list of tax-exempt organizations described in the IRS Code; or

• A copy of the currently valid IRS tax exemption certificate; or

• A statement from a State taxing body, State Attorney General, or other appropriate State official certifying that the applicant organization has a non-profit status and none of the net earnings accrue to any private shareholders or individuals; or

• A certified copy of the organization's certificate of incorporation or similar document that clearly establishes non-profit status; or

• any of the items in the subparagraphs immediately above for a State or national parent organization and a statement signed by the parent organization that the applicant organization is a local non-profit affiliate.

Organizations incorporating in American Samoa are cautioned that the Samoan government relies exclusively upon IRS determinations of non-profit status; therefore, articles of incorporation approved by the Samoan government do not establish non-profit status for the purpose of ANA program eligibility

Resolution: Applicant is required to include a current signed Resolution (a formal decision voted on by the official governing body) in support of the project for the entire project period. The Resolution must indicate who is authorized to sign documents and negotiate on behalf of the Tribe or organization. The Resolution should indicate that the community was involved in the project planning process, and indicate the specific dollar amount of any non-Federal matching funds (if applicable).

2. Cost Sharing or Matching

Grantees must provide at least 20 percent of the total approved cost of the project. The total approved cost of the project is the sum of the ACF share and the non-federal share. The required match can be computed by dividing total Federal funds by 80 percent for total project costs then subtracting the Federal portion. The remainder is the required match. Therefore, a project requesting $100,000 in Federal funds (per budget period) must provide a match of at least $ 25,000 ($100,000/80% = $125,000 − $100,000 = $25,000). Grantees must be able to verify commitments of the non-Federal resources. Failure to provide the non-Federal share match will result in the disallowance of Federal funding commitment.

Applications that fail to include the required amount of cost-sharing will be considered non-responsive and will not be eligible for funding under this announcement. A request for a waiver of the non-Federal share requirement may be submitted in accordance with 45 CFR 1336.50(b) (3) of the Native American Program regulations. Applications originating from American Samoa, Guam, or the Commonwealth of the Northern Mariana Islands are covered under section 501(d) of Public Law 95-134, as amended (48 U.S.C. 1469a) under which HHS waives any requirement for matching funds under $200,000 (including in-kind contributions). For ANA grants under this announcement there is no match required for these insular areas.

3. Other (If Applicable)

DUNS Number: On June 27, 2003, the Office of Management and Budget published in the Federal Register a new Federal policy applicable to all Federal grant applicants after giving notice in the Federal Register on June 27, 2002 and opportunity for public comment. The policy requires all Federal grant applicants to provide a Dun and Bradstreet Data Universal Numbering System (DUNS) number when applying for Federal grants or cooperative agreements on or after October 1, 2003. The DUNS number will be required whether an applicant is submitting a paper application or using the government-wide electronic portal (www.Grants.Gov). A DUNS number will be required for every application for a new award or renewal/continuation of an award, including applications or plans under mandatory grant programs, submitted on or after October 1, 2003. A DUNS number may be acquired at no cost by calling the dedicated toll-free DUNS number request line on 1-866-705-5711 or you may request a number on-line at http://www.dnb.com.

Applicants are cautioned that the ceiling for individual awards is $175,000. Applications exceeding the $175,000 threshold will be returned without review.

Applications that fail to include the required amount of cost-sharing will be considered non-responsive and will not be eligible for funding under this announcement.

IV. Application and Submission Information

1. Address To Request Application Package

The ANA regional Training and Technical Assistance providers at:

Region I: AL, AR, CT, DC, DE, FL, GA, IA, IL, IN, KS, KY, LA, MA, MD, ME, MI, MN, MO, MS, NC, ND, NE, NH, NJ, NY, OH, OK, PA, RI, SC, SD, TN, TX, VA, VT, WI, W.VA.

Native American Management Services, Inc., 6858 Old Dominion Drive, Suite 302, McLean, Virginia 22101, Toll Free: 888-221-9686, (703) 821-2226 x-234, Fax: (703) 821-3680, Kendra King-Bowes, Project Manager, E-mail: kking@namsinc.org, www.anaeastern.org.

Region II: AZ, CA, CO, ID, MT, NM, NV, OR, UT, WA, WY.

ACKCO, Inc., 2214 N. Central, Suite #250, Phoenix, Arizona 85004, Toll Free: 800-525.2859, (602) 253-9211, Fax (602) 253-9135, Theron Wauneka, Project Manager, E-mail: theron.wauneka@ackco.com, www.anawestern.com.

Region III: Alaska.

Native American Management Services, Inc., 11723 Old Glenn Highway, Suite 201, Eagle River, Alaska 99577, Toll Free 877-770-6230, (907) 694-5711, Fax (907) 694-5775, P.J. Bell, Project Manager, E-mail: pjbell@gci.net, www.anaalaska.org.

Region IV: American Samoa (AS), Guam, HI, Commonwealth of Northern Mariana Islands (CNMI).

Council for Native Hawaiian Advancement, 33 South King Street, Suite 513, Honolulu, Hawaii 96813, Toll-Free 800-709-2642, (808) 521-5011, Fax: (808) 521-4111, Jade Danner, Project Manager, E-mail: jade@hawaiiancouncil.org, www.anapacific.org.

2. Content and Form of Application Submission

Please refer to section I “Funding Opportunity Description” to review general ANA Administrative Policies for any applicable statutory policies pertaining to application content and form.

Application Submission: An original and two copies of the complete application are required. The original copy must include all required forms, certifications, assurances, and appendices, be signed by an authorized representative, have original signatures, and be submitted unbound. The two additional copies of the complete application must include all required forms, certifications, assurances, and appendices and must also be submitted unbound. Applicants have the option of omitting from the application copies (not the original) specific salary rates or amounts for individuals specified in the application budget. A complete application for assistance under this Program Announcement consists of Three Parts. Part One is the SF 424, Required Government Forms, and other required documentation. Part Two of the application is the project substance of the application. This section of the application may not exceed 45 pages. Part Three of the application is the Appendix. This section of the application may not exceed 20 pages (the exception to this 20 page limit applies only to projects that require, if relevant to the project, a Business Plan or any Third-Party Agreements).

Electronic Submission: While ACF does have the capability to receive program announcement applications electronically through Grants.gov, electronic submission of applications will not be available for this particular announcement. There are required application form(s) specific to ANA that have not yet received clearance from Grants.gov. While electronic submission of applications may be available in the next fiscal year for this program, no electronic submission of applications will be accepted for this announcement this year as they would be missing those required ANA forms and be considered incomplete.

Organization and Preparation of Application: Due to the intensity and pace of the application review and evaluation process, ANA strongly recommends applicants organize, label, and insert required information in accordance with Part One, Part Two, and Part Three as presented below. The application should begin with the information requested in Part One. Utilizing this format will ensure all information submitted to support an applicant's request for funding is thoroughly reviewed. Deviation from this suggested format may reduce the applicant's ability to receive maximum points, which are directly related to ANA's funding review decisions.

ANA Application Format: ANA Application Format: ANA will now require all applications to be labeled with a Section Heading in compliance with the format provided in the program announcement. This format applies to all applicants submitting applications for funding. All pages submitted (including Government Forms, certifications and assurances) should be numbered consecutively. The paper size shall be 8½ × 11 inches, line spacing shall be a space and a half (1.5 line spacing), printed only on one side, and have a half-inch margin on all sides of the paper. The font size should be no smaller than 12-point and the font type shall be Times New Roman. These requirements do not apply to the project Abstract Form, Letters of Commitment, the Table of Contents, and the Objective Work Plan.

Forms and Assurances: The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: www.acf.hhs.gov/programs/ofs/forms.htm. Fill out Standard Forms 424 and 424A and the associated certifications and assurances based on the instructions on the forms.

Survey: Private, non-profit organizations are encouraged to submit with their applications the survey located under “Grant Related Documents and Forms” titled “Survey for Private, Non-Profit Grant Applicants” at www.acf.hhs.gov/programs/ofs/forms.htm. (OMB No. 1890-0014 Exp. 1/31/06).

3. Submission Date and Time

The Application must be received at the address below by 4:30 p.m. (Eastern Standard Time) on or before April 2, 2004.

Deadline: Mailed applications shall be considered as meeting an announced deadline if received on or before the deadline time and date at the U.S. Department of Health and Human Services, Administration for Children and Families, Office of Grants Management, Division of Discretionary Grants, 370 L'Enfant Promenade, SW., Washington, DC 20447. This address must appear on the envelope/package containing the application with the note “Attention: Lois B. Hodge”. Applicants are cautioned that express/overnight mail services do not always deliver as agreed.

Hand Delivery: The Application shall be considered as meeting an announced deadline if received on or before the deadline date, between the hours of 8 a.m. to 4:30 p.m., Monday through Friday (excluding Federal holidays). Applications may be delivered to U.S. Department of Health and Human Services, Administration for Children and Families, Office of Grants Management, Division of Discretionary Grants, ACF Mail Room, Second Floor Loading Dock, Aerospace Center, 901 D Street, SW., Washington, DC 20024. This address must appear on the envelope/package containing the application with the note “Attention: Lois B. Hodge”. Applicants are cautioned that express/overnight mail services do not always deliver as agreed.

Late Applications: Applications that do not meet the Deadline criteria above will be considered late applications. ACF will notify each late applicant that its application will not be considered for review in the current competition.

Extension of Deadline: ACF may extend application deadlines when circumstances such as acts of God (floods, hurricanes, etc.) occur, when there are widespread disruptions of mail service. Determinations to extend or waive deadline requirements rest with the Chief Grants Management Officer.

Required Forms: All requirements for submission are due on or before the Deadline date.

Part One.—Federal Forms and Other Required Documents
Part One must include the following: | Content and location of Part One required forms, certifications, and documents
SF 424, SF 424A, and SF 424B | http://www.acf.hhs.gov/programs/ofs/forms.htm.
Table of Contents | Applicant must include a table of contents that accurately identifies the page number and where the information can be located. Table of Contents does not count against application page limit.
Project Abstract | ANA Form: OMB Clearance Number 0980-0204, http://www.acf.hhs.gov/programs/ana.
Proof of Non-Profit Status | As described in this announcement under Section “Other Eligibility Information”.
Resolution | Information for submission can be found in the Program Announcement Section “Other Eligibility Information”.
Documentation that the Board of Directors is majority Native American, if applicant is other than a tribe or Alaska Native Village government. | As described in this announcement under “ANA Administrative Policies”.
Audit Letter | A Certified Public Accountant's “Independent Auditors' Report on Financial Statement.” This is usually only a two to three page document. (This requirement applies only to applicants with annual expenditures of $300,000 or more of federal funds). Applicant must also include that portion of the audit document that identifies all other federal sources of funding.
Indirect Cost Agreement | Organizations and Tribes must submit a current indirect cost agreement (if claiming indirect costs) that aligns with the approved ANA project period. The Indirect Cost Agreement must identify the individual components and percentages that make up the indirect cost rate.
Non-Federal Share of Waiver Request, per 45 CFR 1336.50(b) | A request for a waiver of the non-Federal share requirement may be submitted in accordance with 45 CFR 1336.50(b)(3) of the Native American Program regulations (if applicable).
Certification regarding Lobbying Disclosure of Lobbying Activities—SF LLL | May be found at www.acf.hhs.gov/programs/ofs/forms.htm.
Certification regarding Maintenance of Effort | May be found at www.acf.hhs.gov/programs/ofs/forms.htm.
Environmental Tobacco Smoke Certification | May be found at http://www.acf.hhs.gov/programs/ofs/forms.htm.

Part Two—Application Review Criteria
Part two—proposed project | Application review criteria—This section may not exceed 45 pages
Criteria One (5 pts) | Introduction and Project Summary/Project Abstract.
Criteria Two (20 pts) | Objectives and Need for Assistance.
Criteria Three (25 pts) | Approach: Include an Objective Work Plan (OWP) for each year of the project period. Only one OWP form is needed for a 17-month project period.
Criteria Four (20 pts) | Organizational Capacity.
Criteria Five (20 pts) | Results or Benefits Expected.
Criteria Six (10 pts) | Budget and Budget Justification Summary/Cost Effectiveness.

Part Three—Appendix
| Appendix
Part Three—Support Documentation | This section may not exceed 20 pages. Part Three includes only supplemental information or required support documentation that addresses the applicant's capacity to carry out and fulfill the proposed project. These items include: letters of agreement with cooperating entities, in-kind commitment and support letters, business plans, and a summary of the Third Party Agreements. Do not include books, videotapes, studies or published reports and articles, as they will not be made available to the reviewers, or be returned to the applicant.

Additional Forms: Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

Applications are not subject to Executive Order 12372.

5. Funding Restrictions

ANA does not fund:

• Activities in support of litigation against the United States Government that are unallowable under OMB Circulars A-87 and A-122.

• ANA has a policy of not funding duplicative projects or allowing any one community to receive a disproportionate share of the funds available for award. When making decisions on awards of grants the Agency will consider whether the project is essentially identical or similar, in whole or significant part, to projects in the same community previously funded or being funded under the same competition. The Agency will also consider whether the grantee is already receiving funding for a SEDS, Language, or Environmental project from ANA. The Agency will also take into account in making funding decisions whether a proposed project would require funding on indefinite or recurring basis. This determination will be made after it is determined whether the application meets the requirements for eligibility as set forth in 45 CFR part 1336, subpart C, but before funding decisions are complete.

• Projects in which a grantee would provide training and/or technical assistance (T/TA) to other tribes or Native American organizations that are otherwise eligible to apply for ANA funding. However, ANA will fund T/TA requested by a grantee for its own use or for its members' use (as in the case of a consortium), when the T/TA is necessary to carry out project objectives.

• The purchase of real property or construction because those activities are not authorized by the Native American Programs Act of 1974, as amended.

• Objectives or activities to support core administration activities of an organization. However, functions and activities that are clearly project related are eligible for grant funding. Under Alaska SEDS projects, ANA will consider funding core administrative capacity building projects at the village government level if the village does not have governing systems in place.

• Costs associated with fund raising, including financial campaigns, endowment drives, solicitation of gifts and bequests, and similar expenses incurred solely to raise capital or obtain contributions are unallowable under an ANA grant award.

• Major renovation or alteration because those activities are not authorized under the Native American Programs Act of 1974, as amended.

• Projects originated and designed by consultants who provide a major role for themselves and are not members of the applicant organization, Tribe, or village.

• Project activities that do not further the three interrelated ANA goals of economic development or social development or governance, or meet the purpose of this program announcement.

6. Other Submission Requirements

Submission by Mail: An Applicant must provide a complete original and two copies of the application with all required forms and signed by the authorized representative. The Application must be received at the address below by 4:30 PM Eastern Standard Time on or before the closing date. Applications should be mailed to: U.S. Department of Health and Human Services, Administration for Children and Families, Office of Grants Management, Division of Discretionary Grants, “Attention: Lois B. Hodge”, 370 L'Enfant Promenade, SW., Washington, DC 20447.

For Hand-Delivery: An Applicant must deliver a complete original and two copies of the application with all required forms and signed by the authorized representative. Applications shall be considered as meeting an announced deadline if received on or before the deadline date, between the hours of 8 a.m. to 4:30 p.m., EST, Monday through Friday (excluding Federal holidays). Applications may be delivered to the U.S. Department of Health and Human Services, Administration for Children and Families, Office of Grants Management, Division of Discretionary Grants, ACF Mail Room, Second Floor Loading Dock, Aerospace Center, 901 D Street, SW., Washington, DC 20024. This address must appear on the envelope/package containing the application with the note “Attention: Lois B. Hodge”. Applicants are cautioned that express/overnight mail services do not always deliver as agreed.

V. Application Review Information

1. Criteria

Instructions: ACF Uniform Project Description (UPD)

The UPD text should be used as general guidance in the development of projects. However, the specific ANA application submission format to be used in response to this announcement is located in section IV Application and Submission Information.

Purpose: The Project Description is a major area by which an application is evaluated and ranked in competition with other applications for financial assistance. The Project Description should be concise and complete and should address the activity for which Federal funds are being requested. Supporting documents should be included if they present information clearly and succinctly. In preparing your Project Description, all information requested through each specific evaluation criteria should be provided. ANA uses this and other information to make funding decisions. It is important, therefore, that this information be included in the application.

General Instructions: ANA is particularly interested in specific factual information and statements of measurable goals and performance indicators in quantitative terms. Project descriptions are evaluated on a basis of substance, not length. Extensive exhibits are not required. Cross-referencing should be used rather than repetition. Supporting information that does not directly pertain to an integral part of the grant-funded activity should be placed in the appendix. The application narrative should be in a 12-pitch font. A table of contents and an executive summary should be included. Each page should be numbered sequentially, including attachments or appendices. Please do not include books, videotapes or published reports because they are not easily reproduced, are inaccessible to the reviewers, and will not be returned to the applicant.

Introduction: Applicants are required to submit a full Project Description and shall prepare this portion of the grant application in accordance with the following instructions and the specified evaluation criteria. The introduction provides a broad overview of the Project, and the information provided under each evaluation criteria expands and clarifies the project program-specific activities and information that reviewers will need to assess the proposed project.

Project Summary: Provide a summary of the Project Description (a page or less) with reference to the funding request.

Objectives and Need for Assistance: Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the Project Description, the applicant should provide information on the total range of projects currently being conducted and supported (or to be initiated) to ensure they are within the scope of the program announcement.

Results or Benefits Expected: Identify the results and benefits to be derived by the community and its members. For example, applicants are encouraged to describe the qualitative and quantitative data collected, how this data will measure progress towards the stated results or benefits, and how performance indicators under economic and social development and governance projects can be monitored, evaluated and verified.

Approach: Outline a plan of action that describes the scope and detail of how the proposed work will be accomplished. Account for all functions or activities identified in the application. Cite factors, which might accelerate or decelerate the work and state your reason for taking the proposed approach rather than others. Describe any unusual features of the project such as design or technological innovations, reductions in cost or time, extraordinary social and community involvement or ease of project replication by other tribes and Native organizations. List organizations, cooperating entities, consultants, or other key individuals who will work on the project along with a short description of the nature of their effort or contribution. Provide quantitative monthly or quarterly projections of the accomplishments to be achieved for each function or activity in such terms as the number of people served and the number of activities accomplished. Examples of these activities would be the number of businesses started or expanded, the number of jobs created or retained, the number of people trained, the number of youth, couples or families assisted or the number of elders participating in the activity during that reporting period. When accomplishments cannot be quantified by activity or function, list them in chronological order to show the dates and schedule of accomplishments. List organizations, cooperating entities, consultants, or other key individuals who will work on the project, as well as a short description of the nature of their effort or contribution.

Organizational Profiles: Provide information on the applicant organization(s) and cooperating partners with organizational charts, financial statements, audit reports or statements from CPA/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Third-Party Agreements: Include written agreements between grantees and sub grantees or subcontractors or other cooperating entities. These agreements must detail scope of work to be performed, work schedules, remuneration, and other terms and conditions that structure or define the relationship.

Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allow-ability of the proposed costs.

Additional Information: The following are requests for additional information that need to be included in the application: Any non-profit organization submitting an application must submit proof of its non-profit status in the application at the time of submission. The non-profit organization shall submit one of the following: (i) A reference to the applicant organization's listing in the Internal Revenue Service's (IRS) most recent list of tax-exempt organizations described in the IRS Code; or (ii) a copy of the currently valid IRS tax exemption certificate; or (iii) a statement from a State taxing body, State Attorney General, or other appropriate State official certifying that the applicant organization has a non-profit status and none of the net earnings accrue to any private shareholders or individuals; or (iv) a certified copy of the organization's certificate of incorporation or similar document that clearly establishes non-profit status; or (v) any of the items in the subparagraphs immediately above for a State or national parent organization and a statement signed by the parent organization that the applicant organization is a local non-profit affiliate. Organizations incorporating in American Samoa are cautioned that the Samoan government relies exclusively upon IRS determinations of non-profit status; therefore, articles of incorporation approved by the Samoan government do not establish non-profit status for the purpose of ANA program eligibility.

General: The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s); and last column, total budget. The budget justification should be a narrative.

• Personnel: The description of the costs of employee salaries and wages. Identify the project director or principal investigator, if known. For each staff person, provide the title, time commitment to the project (in months), or time commitment to the project (as a percentage or full-time equivalent), annual salary, grant salary, wage rates, etc. Do not include the costs of consultants or personnel costs of delegate agencies or of specific project(s) or businesses to be financed by the applicant.

• Fringe Benefits: Costs of employee fringe benefits unless treated as part of an approved indirect cost rate. Provide a breakdown of the amounts and percentages that comprise fringe benefit costs such as health insurance, FICA, retirement insurance, taxes, etc.

• Travel: Costs of project-related travel by employees of the applicant organization (does not include costs of consultant travel). Justification: For each trip, show the total number of traveler(s), travel destination, duration of trip, per diem, mileage allowances, if privately owned vehicles will be used, and other transportation costs and subsistence allowances. Travel costs for key staff to attend ACF-sponsored workshops should be detailed in the budget.

• Equipment: Equipment means an article of nonexpendable, tangible personal property having a useful life of more than one year and an acquisition cost that equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.). Justification: For each type of equipment requested, provide a description of the equipment, the cost per unit, the number of units, the total cost, and a plan for use on the project, as well as use or disposal of the equipment after the project ends. An applicant organization that uses its own definition for equipment should provide a copy of its policy or section of its policy, which includes the equipment definition.

• Supplies: Costs of all tangible personal property other than that included under the Equipment category. Justification: Specify general categories of supplies and their costs. Show computations and provide other information that supports the amount requested.

• Contractual: Costs of all contracts for services and goods except for those, which belong under other categories such as equipment, supplies, construction, etc. Third-party evaluation contracts (if applicable) and contracts with secondary recipient organizations, including delegate agencies and specific project(s) or businesses to be financed by the applicant, should be included under this category. Justification: All procurement transactions shall be conducted in a manner to provide, to the maximum extent practical, open and free competition. Recipients and sub-recipients, other than States that are required to use Part 92 procedures, must justify any anticipated procurement action that is expected to be awarded without competition (sole source) and exceed the simplified acquisition threshold fixed at 41 U.S.C. 403(11) (currently set at $100,000). Recipients may be required to make available to ANA pre-award review and procurement documents, such as request for proposals or invitations for bids, independent cost estimates, etc. Note: Whenever the applicant intends to delegate part of the project to another agency, the applicant must provide a detailed budget and budget narrative for each delegate agency, by agency title, along with the required supporting information referred to in these instructions.

• Other: Enter the total of all other costs. Such costs, where applicable and appropriate, may include but are not limited to insurance, food, medical and dental costs (noncontractual), professional services costs, space and equipment rentals, printing and publication, computer use, training costs, such as tuition and stipends, staff development costs, and administrative costs. Justification: Provide computations, a narrative description, and a justification for each cost under this category.

• Indirect Charges: Total amount of indirect costs. This category should be used only when the applicant currently has an indirect cost rate approved by the Department of the Interior, Department of Labor, the Department of Health and Human Services (HHS), or other Federal agency. Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

• Program Income: The estimated amount of income, if any, expected to be generated from this project. Justification: Describe the nature, source, and anticipated use of program income in the budget or refer to the pages in the application, which contain this information.

• Non-Federal Resources: Amounts of non-Federal resources that will be used to support the project as identified in Block 15 of the SF-424. Justification: The firm commitment of these resources must be documented and submitted with the application in order to be given credit in the review process. A detailed budget must be prepared for each budget period.

• Total Direct Charges, Total Indirect Charges, and Total Project Costs.

Evaluation Criteria: ANA

Project Approach (25 Points). The Applicant's narrative should be clear and concise. The applicant should provide a detailed project description with goals and objectives. It should discuss the project strategy and implementation plan over the project period. Applicant should describe the project strategy using the Objective Work Plan (OWP). In the OWP, the applicant should identify the project objectives, time frames, proposed activities, outcomes, and evaluation activity, as well as the individuals responsible for completing the objectives and performing the activities. Applicant should summarize how the project description, objective(s), approach, strategy and implementation plan are inter-related. The applicant should also include the names and activities of any organizations, consultants, or other key individuals who will contribute to the project.

The applicant should discuss the planning and/or consultation efforts undertaken, and the proposed objectives and activities that reflect the language needs of the local community. The applicant explains how elders and other community members are involved in the development of the language goals and strategies.

The applicant should discuss the leveraged resources (see Definitions) used to strengthen and broaden the impact of the proposed project. Applicant should discuss how commitments and contributions from other entities will enhance the project. Applicant should provide “Letters of Commitment” that identify the time, dollar amount, and activity to be accomplished through partnerships. Applicants should discuss the relationship of non-ANA funded activities to those objectives and activities that will be funded with ANA grant funds. (Letters of Commitment should be included in the Appendix Section of the application).

The application includes the following three (3) plans:

(1) “Evaluation Plan” with a baseline to measure project outcomes, including, but not limited to, describing effective language growth in the community (e.g., an increase of Native American language use). This plan will be the basis for evaluating the community's progress in achieving its language goals and objectives.

(2) “Sharing Plan” that identifies how the project's methodology, research data, outcomes or other products can be shared and modified for use by other Tribes or communities. If this is not feasible or culturally appropriate, provide the reasons. The goal is to provide opportunities to ensure the survival and the continuing vitality of Native languages.

(3) “Preservation Plan” to preserve project products describes how the products of the project will be preserved through archival or other culturally appropriate methods, for the benefit of future generations.

Native Language programs that produce audio or print media will now include a stipulation that a copy of the product(s) will be provided to ANA for the Language Repository. Federally-recognized Tribes have the option to not submit project products.

Objectives and Need for Assistance (20 Points). Applicant should show a clear relationship between the proposed project, the strategy and community's long-range goals. The need for assistance should clearly identify the physical, economic, social, financial, governmental, and institutional challenges and problem(s) requiring a solution that supports the funding request. Proposed project objectives support the identified need and should be measurable.

Describe the community (see Definitions) to be affected by the project and the community involvement in the project. The Applicant should describe the community's long-range goals, and the community planning process and how the project supports these goals. Discuss the geographic location of the project and where the project and grant will be administered.

Applications from National American Indian and Native American organizations must clearly demonstrate a need for the project, explain how the project originated, and discuss the community-based program delivery strategy of the project, identify and describe the intended beneficiaries, describe and relate the actual project benefits to the community and organization, and describe a community-based program delivery system.

Category II applicants must be able to document: the language information has been collected and analyzed, that it is current (compiled within 36 months prior to the grant application); and, the community has established long-range language goals.

The application fully describes the current status of the Native American language to be addressed; current status is defined as data compiled within the previous 48 months. The description of the current status minimally includes the following information:

• Number of speakers.

• Age of speakers.

• Gender of speakers.

• Level(s) of fluency.

• Number of first language speakers (Native language as the first language acquired).

• Number of second language speakers (Native language as the second language acquired).

• Where Native language is used (e.g. home, court system, religious ceremonies, church, media, school, governance and cultural activities).

• Source of data (formal and/or informal).

• Rate of language loss or gain.

The applicant fully describes existing community language or language training programs and projects, if any, in support of the Native American language to be addressed by the proposed project. The applicant should include the following: if the applicant had a community language or language training program within the last 48 months? Within the last 10 years? If so, fully describe the program(s), and include the following:

(1) Program goals;

(2) Number of program participants;

(3) Number of speakers;

(4) Age range of participants (e.g., 0-5, 6-10, 11-18, etc.);

(5) Number of language teachers;

(6) Criteria used to acknowledge competency of language teachers;

(7) Resources available to the applicant (e.g. valid grammars, dictionaries, and orthographies or describe other suitable resources);

(8) Program achievements.

If applicant has never had a language program, a detailed explanation of what barriers or circumstances prevented the establishment of a community language program should be included. The application describes the proposed project's long-range goals and strategies, including: (1) How the specific Native American long-range community goal(s) relate to the proposed project. (2) How the goal(s) fit within the context of the current language status. (3) A clearly delineated strategy to assist in assuring the survival and continued vitality of the Native American languages addressed in the community. (4) The application explains how the community and the tribal government (where one exists) intend to achieve these goals. (5) All Tribes and communities, however, must indicate in their application how they intend to involve elders and other community members in development of language goals and strategies, and in evaluation of project outcomes. The type of community served will determine the type of documentation necessary to demonstrate participation.

Organizational Profile (20 Points). Provide information on the management structure of the Applicant and the organizational relationships with its cooperating partners. Include organizational charts that indicate how the proposed project will fit in the existing structure. Describe the applicant's capabilities such as the administrative structure, and its ability to administer a project of the proposed scope and its capacity to fulfill the implementation plan.

If relevant to the project, applicants must provide a Business Plan or any Third-Party Agreements (not counted in Appendix page limit). If the applicant proposes to enter into a partnership arrangement with a school, college or university, documentation of this commitment must be included in the application.

Applicants are required to affirm that they will credit the Administration for Native Americans, and reference the ANA funded project on any audio, video, and/or printed materials developed in whole or in part with ANA funds.

Applicants should list all current sources of federal funding, the agency, purpose, amount, and provide the most recent certified signed audit letter for the organization to be included in Part One of the application. If the applicant has audit exceptions, these issues should be addressed.

Applicants should provide “staffing and position data” to include a proposed staffing pattern for the project where the applicant highlights the new project and staff. Positions discussed in this section must match the positions identified in the Objective Work Plan and in the proposed budget. Note: Applicants are strongly encouraged to give preference to qualified Native Americans in hiring project staff and in contracting services under an approved ANA grant. Applicant should provide a paragraph of the duties and skills required for the proposed staff and a paragraph on qualifications and experience of current staff (Full position descriptions are required to be submitted and included in the Appendix). Applicant should explain how the current and future staff will manage the proposed project. Brief biographies of key positions or individuals should be included.

Results or Benefits Expected (20 Points). In this section the applicant should discuss the “Performance Indicators” (see Definitions) and the benefits expected as a result of this project. Performance indicators identify qualitative and quantitative data directly associated with the project. Each applicant must have five indicators to support the applicant's project. Three of the performance indicators should be selected from the list below. Each grantee is required to develop two additional indicators specific to the project that directly support the goals and objectives. For each performance indicator selected the applicant should discuss the relevance of the data, the method for collecting the data, and the evaluation process. Performance indicators will be reported to ANA in the grantee's quarterly report. Category II applications should select three of the five Performance Indicators required from the following list: (1) The number of children, youth and elders involved in establishment or operation of project; (2) number of training classes or workshops held to teach language; (3) number and type of materials developed; (4) number of media products developed; (5) number of translations achieved; (6) number of individuals who increased in ability to speak the language; (7) number of participants who achieve fluency.

The applicant will indicate how it will measure the success of the separate project components and the project as a whole. The applicant should describe how the success of the project would be evaluated and verified by an independent program monitoring and evaluation team. Applicant should provide a narrative on the specific performance indicators that can be analyzed, measured, monitored, and evaluated. Relate these performance indicators to the project goals, objectives, and outcomes. Project outcomes support the identified need and should be measurable.

Budget and Budget Justification/Cost Effectiveness. (10 Points). Budget and Justification: An applicant must submit an itemized budget detailing the applicant's Federal and non-Federal share and citing source(s) of funding. The applicant should provide a detailed line item Federal and Non-federal share budget by year for each year of project funds requested. A budget narrative describing the line item budget should be attached for each year of project funds requested. The budget should include a line item justification for each Object Class Category listed under Section B—“Budget Categories” of the “Budget Information-Non Construction Programs on the SF 424A form. The budget should include the necessary details to facilitate the determination of allowable costs and the relevance of these costs to the proposed project.

Applicant should briefly explain its existing operational budget and any additional anticipated funding including unique financial circumstances, with potential impact on the project such as upcoming monetary or land settlements, and how the proposed project fits in the overall budget. Applicant should explain why it cannot apply other funding resources to cover the ANA portion of funding.

The non-federal budget share should identify the source and be supported by letters of commitment (see Definitions). Letters of commitment are binding when they specifically state the nature, the amount, and conditions under which another agency or organization will support a project funded with ANA funds. These resources may be human, natural, or financial, and may include other Federal and non-Federal resources. For example, a letter from another Federal agency or foundation pledging a commitment of $200,000 in construction funding to complement proposed ANA funded pre-construction activity is evidence of a firm funding commitment. Statements that additional funding will be sought from other specific sources are not considered a binding commitment of outside resources. Letters of Support merely express another organization's endorsement of a proposed project. Support letters are not binding commitment letters. They do not factually establish the authenticity of other resources and do not offer or bind specific resources to the project.

If an applicant plans to charge or otherwise seek credit for indirect costs in its ANA application, a current copy of its Indirect Cost Rate Agreement should be included in the application, with all cost broken down by category so ANA reviewers can be certain that no budgeted line items are included in the indirect cost pool. Applicants that do not submit a current Indirect Cost Rate Agreement, may not be able to claim the allowable cost, may have the grant award amount reduced, or results in a delay in grant award.

Applicants are encouraged to include sufficient funds for principal representatives, such as the applicant's chief financial officer or project director to travel to one ANA post-award grant training and technical assistance workshop. This expenditure is allowable for new grant recipients and optional for grantees that have had previous ANA grant awards, and will be negotiated upon award. Applicants may also include costs to travel to an ANA grantee conference.

For business development projects, the proposal should demonstrate that the expected return on the ANA funds used to develop the project will provide a reasonable operating income and investment return within a specified time period. If a profit-making venture is being proposed, profits should be reinvested in the business in order to decrease or eliminate ANA's future participation. Such revenue should be reported as general program income. A decision will be made at the time of the grant award regarding appropriate use of program income. (See 45 CFR part 74 and part 92).

Cost Effectiveness: This criterion reflects ANA's concern with ensuring that the expenditure of its limited resources yields the greatest benefit possible in preserving Native American languages. Applicants demonstrate this by: summarizing partnerships and the efficient use of leveraged resources; explaining the impact on the identified community through measurable project outcomes; and presenting a project that is completed, or self-sustaining or supported by other than ANA funds by the end of the project period.

Introduction and Project Summary/Project Abstract (5 Points). Using the ANA Project Abstract form, the applicant should provide a Project Introduction. The Introduction will provide the reader an overview and some details of the proposed project. This is where the project is introduced to the peer review panel. Identify the name of the applicant, location of the community to be served by the proposed project, the project activities, amount requested, amount of matching funds to be provided, the length of time required to accomplish the project, and the outcomes or outputs to be achieved. Using the Project Abstract form, applicant will clearly indicate which SEDS goal the project addresses: governance, social development, or economic development.

2. Review and Selection Process

Initial Screening: Each application submitted under this program announcement will undergo a pre-review screening to determine if (a) the application was received by the Program Announcement closing date; (b) the application was submitted in accordance with Section IV, “Application and Submission Information”; (c) the applicant is eligible for funding in accordance with Section III “Eligibility Information” of this program announcement; (d) the applicant has submitted the proper support documentation such as proof of non-profit status, resolutions, and required government forms; (e) an authorized representative has signed the application; and (f) applicant has a DUNS number. An application that fails to meet one of the above elements will be determined to be incomplete and excluded from the competitive review process. Applicants, with incomplete applications, will be notified by mail within 30 business days from the closing date of this program announcement. ANA staff cannot respond to requests for information regarding funding decisions prior to the official applicant notification. After the Commissioner has made decisions on all applications, unsuccessful applicants will be notified in writing within 90 days. If pertinent, the notification will present the application weaknesses identified during the review process. Applicants are not ranked based on general financial need. Applicants, who are initially excluded from competition because of ineligibility, may appeal the decision. Applicants may also appeal an ANA decision that an applicant's proposed activities are ineligible for funding consideration. The appeals process is stated in the final rule published in the Federal Register on August 19, 1996 (61 FR 42817 and 45 CFR part 1336, subpart C).

Competitive Review Process: Applications that pass the initial screening process will be analyzed, evaluated and rated by an independent review panel on the basis of the evaluation criteria specified below. The evaluation criteria were designed to analyze and assess the quality of a proposed community-based project, the likelihood of its success, and the ability to monitor and evaluate community impact and long-term results. The evaluation criteria and analysis are closely related and are wholly considered in judging the overall quality of an application. In addition, the evaluation criteria will standardize the review of each application and distribute the number of points more equitably. Applications will be evaluated in accordance with the program announcement criteria and ANA's program areas of interest. A determination will be made as to whether the proposed project is an effective use of federal funds.

As non-Federal reviewers will be used, applicants have the option of omitting from the application copies (not original) specific salary rates or amounts for individuals specified in the application budget and Social Security Numbers, if otherwise required for individuals. The copies may include summary salary information.

Application Review Criteria: ANA has expanded the review criteria to allow for a more equitable distribution of points during the application review and competition process. The use of the six criteria distributes the number of points more equitably. Based on the ACF Uniform Project Description, ANA's criteria categories are Project Introduction; Objectives and Need for Assistance; Project Approach; Organizational Capacity; Results and Benefits Expected; and Budget and Budget Narrative.

Application Consideration: The Commissioner's funding decision is based on an analysis of the application by the review panel, panel review scores and comments; an analysis by ANA staff and review of previous ANA grant performance (such as timely reporting and successful grant close-out); comments of State and Federal agencies having contract and grant performance related information; and other interested parties. The Commissioner makes grant awards consistent with the purpose of the Native American Programs Act (NAPA), all relevant statutory and regulatory requirements, this program announcement, and the availability of appropriated funds. The Commissioner reserves the right to award more, or less, than the funds described or under such circumstances as may be deemed to be in the best interest of the federal government. Applicants may be required to reduce the scope of projects based on the amount of approved award.

VI. Award Administration Information

1. Award Notice

Approximately 120 days after the application due date, the successful applicants will be notified by mail through the issuance of a Financial Assistance Award document which will set forth the amount of funds granted, the terms and conditions of the grant, the effective date of the grant, the budget period for which initial support will be given, the non-Federal share to be provided and the total project period for which support is contemplated. The Financial Assistance Award will be signed by the Grants Officer and sent to the applicants Authorizing Official.

Organizations whose applications will not be funded will be notified in writing.

2. Administrative and National Policy Requirements

45 CFR part 74, 45 CFR part 92, 45 CFR part 1336, subpart C, and 42 U.S.C. 2991 et seq.—Native American Programs Act of 1974.

Paperwork Reduction Act of 1995 (Pub. L. 104-13): Public reporting burden for this collection of information is estimated to average 120 hours per response, including the time for reviewing instructions, gathering and maintaining the data needed and reviewing the collection information. The project description is approved under OMB control number 0970-0139 which expires 3/31/04. The Survey on Ensuring Equal Opportunity for Applicants form is approved under OMB control number 1890-0014 which expires 1/31/06.

3. Reporting Requirements

Programmatic Reports: Quarterly.

Financial Reports: Quarterly.

Special Reporting Requirements: An original and one copy of each performance report and financial status report must be submitted to the Grants Officer. Failure to submit these reports when required will mean the grantee is non-compliant with the terms and conditions of the grant award and subject to administrative action or termination. Performance reports are submitted 30 days after each quarter (3-month intervals) of the budget period. The final performance report, due 90 days after the project period end date, shall cover grantee performance during the entire project period. All grantees shall use the SF 269 (Long Form) to report the status of funds.

Financial Status Reports are submitted 30 days after each quarter (3-month intervals) of each budget period. The final report shall be due 90 days after the end of the project period.

VII. Agency Contacts

Program Office Contact: ANA Applicant Help Desk, 370 L'Enfant Promenade, SW., Aerospace Center 8th Floor-West, Washington, DC 20447-0002, Telephone: 202-690-7776 or toll-free at 1-877-922-9262, E-mail: ana@acf.hhs.gov.

Grants Management Office Contact: Lois B. Hodge, 370 L'Enfant Promenade, SW., Aerospace Center 8th Floor-West, Washington, DC 20447-0002, Telephone: (202) 401-2344, E-mail: Lhodge@acf.dhhs.gov.

VIII. Other Information

Training and Technical Assistance: All potential ANA applicants are eligible to receive training and technical assistance in the Native Language program areas. Prospective applicants should check ANA's Web site for training and technical assistance dates and locations, or contact the ANA Help Desk at 1-877-922-9262. Due to the new application and program additions and modifications, ANA strongly encourages all prospective applicants to participate in free pre-application training.

Dated: January 21, 2004.
Quanah Crossland Stamps,
Commissioner, Administration for Native Americans.

[FR Doc. 04-3655 Filed 2-20-04; 8:45 am]

BILLING CODE 4184-01-P